FEDERAL COMMUNICATIONS COMMISSION

[Report No. 2645]

Petitions for Reconsideration and Clarification of Action in Rulemaking Proceedings

February 9, 2004.

Petitions for Reconsideration and Clarification have been filed in the Commission's Rulemaking proceedings listed in this Public Notice and published pursuant to 47 CFR Section 1.429(e). The full text of this document is available for viewing and copying in Room CY-A257, 445 12th Street, SW., Washington, DC or may be purchased from the Commission's copy contractor, Qualex International (202) 863-2893. Oppositions to these petitions must be filed by March 3, 2004. See Section 1.4(b)(1) of the Commission's rules (47 CFR 1.4(b)(1)). Replies to an opposition must be filed within 10 days after the time for filing oppositions have expired.

Subject: In the Matter of the Amendment of Section 2.106 of the Commission's Rules to Allocate Spectrum at 2 GHz for use by the Mobile-Satellite Service (ET Docket No. 95-18);

Service Rules for Advanced Wireless Services in the 1.7 GHz band 2.1 GHz Bands (WT Docket No. 02-353);

Amendment of Part 2 of the Commission's Rules to Allocate Spectrum Below 3 GHz for Mobile and Fixed Services to Support the Introduction of New Advanced Wireless Services, including Third Generation Wireless Systems (ET Docket No. 00-258);

Flexibility for Delivery of Communications by Mobile Satellite Service Providers in the 2 GHz Band, the L-Band, and the 1.6/2.4 GHz Bands (IB Docket No. 01-185).

Number of Petitions Filed: 5.

Subject: Amendment of the Digital TV Table of Allotments (Corpus Christi, Texas) (MM Docket No. 99-277, RM-9666).

Number of Petitions Filed: 1.

Subject: Amendment of the Digital TV Table of Allotments (Jackson, Mississippi) (MM Docket No. 01-43, RM-1004).

Number of Petitions Filed: 1.

Subject: In the Matter of Flexibility for Delivery of Communications by Mobile Satellite Service Providers in the 2 GHz Band, the L-Band, and the 1.6/2.4 GHz Bands (IB Docket No. 01-185).

Number of Petitions Filed: 2.

Subject: In the Matter of the Review of Part 15 and other Parts of the Commission's Rules (ET Docket No. 01-278, RM-9375, RM-10051);

Amendment of Parts 2 and 15 of the Commission's Rules to Deregulate the Equipment Authorization Requirements for Digital Devices (ET Docket No. 95-19);

M/A-COM private Radio Systems, Inc. Petition for Declaratory Ruling.

Number of Petitions Filed: 1.

Subject: Amendment of the FM Table of Allotments (Ash Fork, Arizona) (MM Docket No. 02-12, RM-10356, RM-10551, RM-10552, RM-10553, and RM-10554).

Number of Petitions Filed: 1.

Subject: In the Matter of the Rural Health Care Support Mechanism (WC Docket No. 02-60).

Number of Petitions Filed: 1.

Subject: Amendments of Parts 2, 25 and 87 of the Commission's Rules to Implement Decisions From World Radiocommunication Conferences Concerning Frequency Bands Between 28 MHz and 36GHz and to Otherwise Update the Rules in this Frequency Range (ET Docket No. 02-305);

Amendment of Parts 2 and 25 of the Commission's Rules to Allocate Spectrum for Government and Non-Government Use in the Radionavigation-Satellite Service (RM-10331).

Number of Petitions Filed: 1.

Marlene H. Dortch,
Secretary.

[FR Doc. 04-3363 Filed 2-13-04; 8:45 am]

BILLING CODE 6712-01-M